DEPARTMENT OF TRANSPORTATION

Federal Aviation Administration

Agency Information Collection Activities: Requests for Comments; Clearance of New Approval of Information Collection: FAA Aircraft Noise Complaint and Inquiry System (FAA Noise Portal)

AGENCY: Federal Aviation Administration (FAA), DOT.

ACTION: Notice and request for comments.

SUMMARY: In accordance with the Paperwork Reduction Act of 1995, the FAA invites public comments about our intention to request the Office of Management and Budget (OMB) approval for a new information collection. The Federal Register Notice with a 60-day comment period soliciting comments on the following collection of information was published on November 2, 2017. The voluntary collection is part of the FAA's goal to more effectively and efficiently address noise complaints or inquiries it receives. The collection includes information such as name, email address, street or cross street, city, state, zip code, and a description of the aircraft noise complaint or inquiry. The level of information to be collected is necessary to allow the FAA to respond to the noise complaint or inquiry.

DATES: Written comments should be submitted by May 29, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-XXXX.

Title: FAA Aircraft Noise Complaint and Inquiry System (FAA Noise Portal).

Form Numbers: There are no forms.

Type of Review: This is clearance of new information collection.

Background: The Federal Register Notice with a 60-day comment period soliciting comments on the following collection of information was published on November 2, 2017 (82 FR 50932).

In summary, the FAA received comments from 21 individuals; two aviation organizations, Airlines for America (A4A) and the Airports International Council of North America (ACI-NA); the Port of Seattle, which has oversight and management of Seattle-Tacoma International Airport (Sea-Tac); and the cities of SeaTac, WA and College Park, GA. Several individuals complained about aircraft noise at specific airports, which was not applicable to the public notice. We noted this as N/A in the FAA comment response matrix for OMB and restated the purpose of the FAA Noise Portal. Other individuals commented that the FAA Noise Portal would be useless because it would not improve their current noise situation.

Several commenters questioned what the FAA would do with the data we collected. In our response we explained that the FAA would use the data to identify common complaints or inquiries so we could post commonly asked questions and answers to the regional websites to inform those interested upfront without their having to submit a complaint or inquiry through the FAA Noise Portal. We said we may also use the data to identify trends in FAA related noise concerns. Implementation of the Noise Portal does not change the FAA's current policies regarding noise.

One commenter noted that the PRA requires the FAA to certify that the collection of information is necessary for the proper performance of the agency. The FAA responded that as a federal agency we must be responsive to the public by taking action on the aircraft noise complaints we already receive, which in many cases means directing them to the appropriate airport. Others were concerned that the FAA would duplicate efforts by the Airport Sponsors who already have noise complaint systems to receive and respond to public noise complaints for their airport.

The FAA is aware of the existing airport sponsor noise complaint systems and will provide their links on the regional noise websites for the public. In addition, FAA will coordinate with ACI-NA to assist us in our coordination efforts with the airport sponsors and with other relevant aviation stakeholders ACI-NA represents to minimize any duplication in efforts between the FAA and airport sponsors regarding aircraft noise complaints or inquiries. We did not receive any comments on the cost and hour burden of the Noise Portal.

The purpose of the FAA Noise Portal is to allow the FAA to more efficiently and effectively respond to and address noise complaints or inquiries in a clear, consistent, and repeatable manner that is responsive to the public and applies the best use of FAA resources. Currently, there is no clear FAA process or point of entry for the public to submit noise complaints and inquiries. As a result, public noise complaints and inquiries are forwarded within the FAA until the appropriate person or organization responds. This creates a delay in FAA responses to the public.

A public link to the FAA Noise Portal collection will be posted on each of the nine FAA regional websites and the FAA Headquarters Noise Ombudsman website for members of the public who want to submit an aircraft related noise complaint or inquiry to the FAA. The FAA Noise Portal includes required and optional fields for the public to complete. Once completed, the information is automatically sent to the FAA Regional Administrators Office or Noise Ombudsman who in turn assigns it to the appropriate FAA office to respond to the complaint or inquiry within a specified time frame. All incoming complaints and inquiries are automatically entered into an FAA database that can be tracked to ensure timely responses and queried for informational purposes.

The websites will also identify and provide links to other entities responsible for addressing aircraft noise related issues (e.g., airports, military, helicopters) and will contain links to pertinent aircraft noise related policy, environmental, or community involvement documents. In addition, the websites will contain a mailing address and phone number for those members of the public who wish to mail a postal letter or use a voice prompt and recording system option to complete the required fields included in the FAA Noise Portal.

Respondents: Generally, any member of the public in the United States with a valid email address who believes the FAA is the appropriate entity to answer their aircraft noise complaint or inquiry.

Frequency: Members of the public are not limited regarding the frequency with which they can submit a complaint or inquiry to the FAA.

Estimated Average Burden per Response: Fifteen minutes to enter the complaint or inquiry into the FAA Noise Portal fields.

Estimated Total Annual Burden: 11,250 hours.

Issued in Fort Worth, TX on April 17, 2018.
Barbara Hall,
FAA Information Collection Clearance Officer, IT Enterprises Business Services Division, ASP-110.

[FR Doc. 2018-08963 Filed 4-26-18; 8:45 am]

BILLING CODE 4910-13-P